DEPARTMENT OF ENERGY

Federal Energy Regulatory Commission

[Docket No. EL15-32-000]

North Carolina Waste Awareness and Reduction Network, Inc. v. Duke Energy; Notice of Complaint

Take notice that on December 16, 2014, pursuant to Rule 206 of the Federal Energy Regulatory Commission's (Commission) Rules of Practice and Procedure, 18 CFR 385.206 and section 206 of the Federal Power Act, 16 U.S.C. 824e, North Carolina Waste Awareness and Reduction Network, Inc. (Complainant or NC WARN), filed a formal complaint against Duke Energy (Respondent), alleging that the Respondent manipulates the electricity market so that the Respondent can construct new generating plants that are not needed and not warranted given the overcapacity in the Southeast region. In addition, NC WARN requests the Commission to investigate the Respondent's practices to determine if the Respondent should enter into a Regional Transmission Operator and purchase necessary power from other utilities rather than construct wasteful and redundant generating plants.

The Complainant certifies that copies of the complaint were served on the contacts of the Respondent as listed on the Commission's list of Corporation Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 5, 2015.

Dated: December 16, 2014.
Kimberly D. Bose,
Secretary.

[FR Doc. 2014-29960 Filed 12-22-14; 8:45 am]

BILLING CODE 6717-01-P